DEPARTMENT OF THE TREASURY

Submission for OMB Review; Comment Request

May 3, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 14, 2004 to be assured of consideration.

Internal Revenue Service (IRS)

OMB Number: 1545-0954.

Form Number: IRS Form 1120-ND.

Type of Review: Extension.

Title: Return for Nuclear Decommissioning Funds and Certain Related Persons.

Description: A nuclear utility files Form 1120-ND to report the income and taxes of a fund set up by the public utility to provide cash for the dismantling of the nuclear power plant. The IRS uses Form 1120-ND to determine if the fund income taxes are correctly computed and if a person related to the fund or the nuclear utility must pay taxes on self-dealing.

Respondents: Business or other for-profit.

Estimated Number of Respondents/Recordkeepers: 100.

Estimated Burden Hours Respondent/Recordkeeper:

Recordkeeping—23 hr., 26 min.

Learning about the law or the form—3 hr., 7 min.

Preparing the form.—5 hr., 30 min.

Copying, assembling, and sending the form to the IRS—32 min.

Frequency of response: Annually.

Estimated Total Reporting/Recordkeeping Burden: 3,259 hours.

OMB Number: 1545-1722.

Form Number: IRS Form 8873.

Type of Review: Extension.

Title: Extraterritorial Income Exclusion.

Description: A taxpayer uses Form 8873 to claim the gross income exclusion provided for by section 114 of the Internal Revenue Code.

Respondents: Business or other for-profit, Individuals or households.

Estimated Number of Respondents/Recordkeepers: 1,000,000.

Estimated Burden Hours Respondent/Recordkeeper:

Recordkeeping—21 hr., 3 min.

Learning about the law or the form—1 hr., 53 min.

Preparing, copying, assembling, and sending the form to the IRS—2 hr., 25 min.

Frequency of response: Annually.

Estimated Total Reporting/Recordkeeping Burden: 25,450,000 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-10914 Filed 5-13-04; 8:45 am]

BILLING CODE 4830-01-P